ELECTION ASSISTANCE COMMISSION

Sunshine Act Notice

AGENCY: United States Election Assistance Commission.

ACTION: Notice of public meeting.

Date & Time: Monday, July 21, 2008, 10 a.m.-3 p.m. (MST).

Place: J. W. Marriott Desert Ridge, 5350 E Marriott Drive, Phoenix, Arizona 85054, (480) 293-5000.

Agenda: The Commissioners will consider the following items: Commissioners will consider and vote on whether to modify Advisory Opinion 07-003-A regarding Maintenance of Effort (MOE) funding, pursuant to HAVA Section 254(a)(7). Commissioners will consider and vote on a Proposed Replacement Advisory Opinion 07-003-B Regarding Maintenance of Effort. Commissioners will consider the of Adoption of EAC Laboratory Accreditation Program Manual; Commissioners will consider a Draft Policy for Joint Partnership Task Force of EAC and State Election Officials Regarding Spending of HAVA Funds; Commissioners will consider a Draft Policy for Notice and Public Comment; Commissioners will consider Draft Changes to the Charter of the EAC Technical Guidelines Development Committee. Commissioners will consider whether to update the Louisiana state instructions, the Michigan state instructions and the Vermont state instructions on the national voter registration form. Commissioners will receive a briefing regarding a HAVA State Spending Report to Congress; Commissioners will receive a Briefing on Comments Received on the Draft EAC Guidance to States Regarding Updates to the State Plans; Commissioners will receive a briefing regarding Board of Advisors Resolution 2008-3 Concerning EAC Certification of Voting Systems; Commissioners will receive a Presentation on the EAC Laboratory Accreditation Program Manual. The Commission will consider other administrative matters. Commissioners will hold a workshop discussion on Preparing for Election Day 2008 and Contingency Planning.

This meeting will be open to the public.

Person to Contact for Information: Bryan Whitener, Telephone: (202) 566-3100.

Thomas R. Wilkey,
Executive Director, U.S. Election Assistance Commission.

[FR Doc. 08-1408 Filed 7-1-08; 9:45 am]

BILLING CODE 6820-KF-P